DEPARTMENT OF THE INTERIOR

National Park Service

[NPS-PWR-PWRO-0412-7147; 9082-CECH-420]

Cesar Chavez Special Resource Study—Alameda, Fresno, Imperial, Kern, Los Angeles, Monterey, Riverside, San Benito, San Diego, San Francisco, San Joaquin, Santa Barbara, Santa Clara, Stanislaus, Tulare and Ventura Counties, CA, and Maricopa and Yuma Counties, AZ

AGENCY: National Park Service.

ACTION: Notice of Scoping for Cesar Chavez Special Resource Study.

SUMMARY: In accordance with provisions of the National Environmental Policy Act of 1969 (Pub L. 91-190) and Council on Environmental Quality's implementing regulations (40 CFR 1502.9(c)), the National Park Service (NPS) has initiated the public scoping phase for a conservation planning and environmental impact analysis process needed to identify and assess potential impacts of alternatives for resource protection and other considerations concerning sites associated with Cesar Chavez and the farm labor movement throughout California and Arizona, including but not necessarily limited to Alameda, Fresno, Imperial, Kern, Los Angeles, Monterey, Riverside, San Benito, San Diego, San Francisco, San Joaquin, Santa Barbara, Santa Clara, Stanislaus, Tulare and Ventura Counties of California, and Yuma and Maricopa Counties of Arizona. The purpose of the scoping phase is to elicit early public comment regarding issues and concerns, preliminary alternatives, and the nature and extent of potential environmental impacts (and as appropriate, mitigation measures) which should be addressed.

Background: As authorized by the Consolidated Natural Resources Act of 2008 (Pub. L. 110-229-May 2008), the NPS is conducting a special resource study of the sites in the State of Arizona, the State of California, and other states that are significant to the life of Cesar Chavez and the farm labor movement in the western United States. The authorizing statute directs the NPS to consult with the Cesar Chavez Foundation, the United Farm Workers Union, state and local historical associations and societies, and state historic preservation offices.

In conducting the Cesar Chavez Special Resource Study, the NPS will evaluate the significance of the sites' resources and assess the sites' suitability and feasibility to be a unit of the national park system. Factors which the NPS will evaluate include: Whether the sites posses nationally significant cultural resources; whether the sites include types or quality of resources not already adequately represented in the National Park System; whether long-term protection and public use of sites are feasible; and whether sites can be adequately protected and administered at a reasonable cost. Recommendations may vary for different sites.

The NPS will also consider: alternative strategies for the management, protection and use of significant resources, including management by other public agencies or the private sector; technical or financial assistance available from established programs or special initiatives and partnerships; alternative designations to a national park unit; and cooperative management by NPS and other entities.

Public Involvement: The NPS will develop a range of management alternatives, and conduct an environmental review of the alternatives and their potential impacts as part of the Cesar Chavez Special Resource Study. At this time, it has not been determined whether an Environmental Assessment or an Environmental Impact Statement will be prepared, however, this scoping effort will aid in the preparation of either document. In addition to this opportunity to comment and participate from the beginning of the study process, the public will be afforded the opportunity to review the environmental document and submit additional comments. For initial scoping and alternatives development, the most useful comments are those that provide the NPS with assistance in identifying issues and concerns which should be addressed, or providing important information germane to this study. All responses to this Scoping Notice will also be used to establish a mailing list of interested persons, organizations, and agencies that desire to receive further information as the environmental document is developed.

The public scoping period for the Cesar Chavez Special Resource Study will conclude June 16, 2011. Scoping meetings (public workshops) will be held in the vicinity of key sites, likely in or near San Jose, the Salinas Valley, Delano, Los Angeles, Oxnard, Yuma and Phoenix in April and May of 2010. A news release will be distributed announcing the public meetings. The dates, times and locations of the meetings will be posted on both the project Web site (address below) and the Web site for NPS Planning, Environment and Public Comment, and will be advertised in a newsletter which will be distributed to stakeholders and interested parties. Interested individuals, organizations, and agencies wishing to provide written comments on issues or concerns should respond to: National Park Service, Cesar Chavez Special Resource Study, Park Planning and Environmental Compliance, 1111 Jackson Street, Suite 700, Oakland, CA 94607. Comments may also be submitted electronically by e-mail (address below) or through the NPS Planning, Environment and Public Comment (PEPC) Web site. This site can be accessed through the study's Web site listed below.

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Information updates about the study process and opportunities for the public to participate will be periodically distributed via direct mailings, regional and local news media and the Cesar Chavez Special Resource Study Web site (http://www.nps.gov/pwro/chavez). The study team may be contacted via e-mail at pwr_chavez@nps.gov.

Decision Process: Availability of the forthcoming draft environmental document for review and written comment will be announced by local and regional news media, the above listed Web site, and direct mailing. At this time the environmental document is anticipated to be available for public review and comment in Fall 2011. Comments on the draft document will be fully considered and responded to as appropriate in the final document. The official responsible for the initial recommendation will be the Regional Director, Pacific West Region, National Park Service. The official responsible for amending or ratifying the recommendation and transmitting the final document to the Secretary of the Interior will be the Director of the National Park Service. The final document will identify the alternative that, in the professional judgment of the Director of the National Park Service, is the most effective and efficient method for protecting significant resources and providing for public enjoyment. The Secretary of the Interior subsequently will forward the completed study along with a recommendation regarding the Secretary's preferred management option for the area to Congress for their consideration. It is anticipated that the final study report will be available in late 2011.

Dated: April 6, 2011.
Patricia L. Neubacher,
Acting Regional Director, Pacific West Region.

[FR Doc. 2011-11978 Filed 5-16-11; 8:45 am]

BILLING CODE 4312-EP-P